DEPARTMENT OF DEFENSE

Department of the Army

[Docket ID: USA-2009-0018]

Proposed Collection; Comment Request

AGENCY: Office of the Administrative Assistant to the Secretary of the Army, (OAA-AAHS), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 22, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of the Army, U.S. Army Corps of Engineers, Institute for Water Resources (IWR), Waterborne Commerce Statistics Center, P.O. Box 61280, New Orleans, LA 70161, ATTN: CEIWR-NDC-C (David L. Penick, CEIWR-NDC-C), or call Department of the Army reports clearance officer at (703) 428-6440.

Title, Associated Form, and OMB Number: Terminal and Transfer Facilities Descriptions, IWR Forms 1-9; OMB Control Number 0710-0007.

Needs and Uses: Data gathered and published as one of the 56 Port Series Reports, relating to terminals, transfer facilities, storage facilities, and intermodal transportation. This information is used in navigation, planning, safety, National security, emergency operations, and general interest studies and activities. Respondents are terminal and transfer facility operators. These data are essential to the Waterborne Commerce Statistics Center in Exercising their enforcement and quality control responsibilities in the collection of data from vessel reporting companies.

Affected Public: Business or other for-profit; Federal government; and State, Local or Tribal government.

Annual Burden Hours: 316.

Number of Respondents: 1,262.

Responses per Respondent: 1.

Average Burden per Response: 15 minutes.

Frequency: Annually.

SUPPLEMENTARY INFORMATION:

Summary of Information Collection

The Federal Emergency Management Agency (FEMA) has used the port facility data in rapidly identifying affected businesses in need of assistance during the flooding events. Military interest of the Army, Navy, and Coast Guard are met with information on intermodal connections, terminal transfer and storage facilities and loading equipment capabilities in the event of rapid military deployment, or National emergencies. The Army's Military Surface and Deployment and Distribution Command (SDDC) uses the information as a baseline for updating their “Ports for National Defense” mission.

Dated: May 29, 2009.
Patricia L. Toppings,
OSD Federal Register Liaison Officer, Department of Defense.

[FR Doc. E9-17647 Filed 7-23-09; 8:45 am]

BILLING CODE 5001-06-P